DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: TPCC Benchmarking Exercise.

Agency Form Number: N/A.

OMB Number: None.

Type of Request: Emergency Submission.

Burden: 715 hours.

Number of Respondents: 2500.

Avg. Hours Per Response: 5 minutes to 1.5 hours.

Needs and Uses: The Trade Promotion Coordinating Committee (TPCC) chaired by Commerce Secretary Evans is conducting a benchmarking exercise of federal trade promotion programs. The goal of this exercise is to ensure that U.S. government agencies provide exporters with world-class services that enable them to take full advantage of new market openings. The benchmarking exercise is comprised of the following two parts: (1) an analysis of other countries export promotion and financing efforts; and (2) an assessment of what U.S. businesses need to export. The assessment will be based on a survey of exporters' needs and a set of focus group interviews with TPCC agency program users. The information we collect will help us to determine what other organizations help small businesses (and get a sense of who does it well), what the export assistance needs of small business exporters are, why don't more small business export, and if there is a trade financing problem. The survey and focus groups will also address how small businesses are using the Internet for exporting. In March 2002, Secretary Evans will present the TPCC's National Export Strategy to Congress, laying out recommendations based on this exercise to improve and streamline TPCC agency programs and services.

Affected Public: Businesses or other for-profits.

Frequency: Once.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution, NW., Washington, DC 20230 or via Internet at MClayton@doc.gov.

Written comments and recommendations for the proposed information collection should be sent to David Rostker, OMB Desk Officer, Room 10202, New Executive Office Building, Washington, DC 20503 within 30 days of the publication of this notice in the Federal Register.

Dated: December 6, 2001.
Madeleine Clayton,
Departmental Paperwork Clearance Officer,Office of the Chief Information Officer.

[FR Doc. 01-30632 Filed 12-11-01; 8:45 am]

BILLING CODE 3510-25-P